DEPARTMENT OF DEFENSE

Office of the Secretary

Federal Advisory Committee; Department of Defense Wage Committee; Closed Meeting

AGENCY: Civilian Personnel Management Service (Wage and Salary Division), DoD.

ACTION: Notice of meeting.

SUMMARY: Pursuant to the provisions of section 10 of Public Law 92-463, the Federal Advisory Committee Act, DoD announces the Department of Defense Wage Committee will meet in closed session on June 1, 2010, in Rosslyn, Virginia.

DATES: The meeting will be held on June 1, 2010, at 10 a.m.

ADDRESSES: The meeting will be held at 1400 Key Boulevard, Level A, Room A101, Rosslyn, Virginia 22209-5144.

FOR FURTHER INFORMATION CONTACT: Mr. Craig Jerabek, Designated Federal Officer for the Department of Defense Wage Committee, 1400 Key Boulevard, Suite A105, Arlington, Virginia 22209-5144, Telephone: (703) 696-1735, Fax: (703) 696-5472, E-mail: craig.jerabek@cpms.osd.mil.

SUPPLEMENTARY INFORMATION: Under the provisions of section 10(d) of the Federal Advisory Committee Act of 1972, Public Law 92-463, it is hereby determined that every Wage Committee meeting concerns matters listed in 5 U.S.C. 552b(c)(2) and 5 U.S.C. 552b(c)(4), and that, accordingly, the meeting will be closed to the public.

Purpose of Meeting

The Committee will receive, review, and consider wage survey specifications, wage survey data, local wage survey committee reports and recommendations, and wage schedules derived there from.

Request for Waiver

Due to unforeseen difficulties, the Designated Federal Officer was unable to process the Federal Register notice for the June 1, 2010, meeting of the Department of Defense Wage Committee, as required by 41 CFR 102-3.150(a). Accordingly, the Committee Management Officer for the Department of Defense, pursuant to 41 CFR 102-3.150(b), waives the 15-calendar day notification requirement.

Dated: May 20, 2010.
Mitchell S. Bryman,
Alternate OSD Federal Register Liaison Officer, Department of Defense.

[FR Doc. 2010-12522 Filed 5-24-10; 8:45 am]

BILLING CODE 5001-06-P